SUSQUEHANNA RIVER BASIN COMMISSION

Actions Taken at March 12, 2021, Meeting

AGENCY: Susquehanna River Basin Commission.

ACTION: Notice.

SUMMARY: As part of its regular business meeting held on March 12, 2021, from Harrisburg, Pennsylvania, the Commission approved the applications of certain water resources projects, and took additional actions, as set forth in the Supplementary Information below.

DATES: March 12, 2021.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Ratification/approval of contracts/grants; (2) requested approval to release a proposed rulemaking for public comment; (3) adopted a resolution designating the Executive Director as an authorized agent regarding a grant with PEMA; and (4) Regulatory Program projects.

Project Applications Approved

1. Project Sponsor and Facility: Hastings Municipal Authority, Elder Township, Cambria County, Pa. Application for groundwater withdrawal of up to 0.260 mgd (30-day average) from Mine Spring Well 1.

2. Project Sponsor and Facility: Montgomery Water Authority, Clinton Township, Lycoming County, Pa. Application for renewal of groundwater withdrawal of up to 0.220 mgd (30-day average) from Well 3 (Docket No. 19910705).

3. Project Sponsor and Facility: Renovo Energy Center LLC, Renovo Borough, Clinton County, Pa. Modification to extend the project commencement date of the approval (Docket No. 20160608).

4. Project Sponsor and Facility: Village of Sidney, Town of Sidney, Delaware County, N.Y. Modification to extend the approval term of the groundwater withdrawal approval (Docket No. 19860201) to provide time for development of a replacement source for existing Well 2-88.

5. Project Sponsor: SUEZ Water Pennsylvania Inc. Project Facility: Dallas Operation, Dallas Township, Luzerne County, Pa. Application for renewal of groundwater withdrawal of up to 0.168 mgd (30-day average) from the Schooley Well (Docket No. 19881103).

6. Project Sponsor and Facility: Upstate Niagara Cooperative, Inc., Town of Campbell, Steuben County, N.Y. Applications for groundwater withdrawals (30-day averages) of up to 0.510 mgd from Well 1 and renewal of up to 1.100 mgd from Well 4 (Docket No. 19950904).

Commission Initiated Project Approval Modification

7. Project Sponsor and Facility: Empire Kosher Poultry, Inc., Walker Township, Juniata County, Pa. Conforming the grandfathered amount with the forthcoming determination for consumptive use of up to 0.049 mgd (30-day average) (Docket No. 20030809).

Project Applications Tabled

8. Project Sponsor and Facility: Beech Resources, LLC (Lycoming Creek), Lycoming Township, Lycoming County, Pa. Application for surface water withdrawal of up to 1.500 mgd (peak day).

9. Project Sponsor and Facility: Geneva Farm Golf Course, Inc., Dublin District, Harford County, Md. Application for renewal of consumptive use of up to 0.099 mgd (30-day average) (Docket No. 19910104).

10. Project Sponsor and Facility: Greenfield Township Municipal Authority, Greenfield Township, Blair County, Pa. Application for groundwater withdrawal of up to 0.499 mgd (30-day average) from Well PW-4.

11. Project Sponsor: Weaverland Valley Authority. Project Facility: Blue Ball Water System, East Earl Township, Lancaster County, Pa. Application for groundwater withdrawal of up to 0.144 mgd (30-day average) from Well 4.

(Authority: Pub. L. 91-575, 84 Stat. 1509 et seq., 18 CFR parts 806, 807, and 808)

Dated: March 15, 2021.
Jason E. Oyler,
General Counsel and Secretary to the Commission.

[FR Doc. 2021-05611 Filed 3-17-21; 8:45 am]

BILLING CODE 7040-01-P